DEPARTMENT OF ENERGY

Federal Energy Regulatory Commission

Combined Notice of Filings

Take notice that the Commission has received the following Natural Gas Pipeline Rate and Refund Report filings:

Filings Instituting Proceedings

Docket Number: PR19-65-000.

Applicants: Columbia Gas of Ohio, Inc.

Description: Tariff filing per 284.123(b),(e)/: COH Rates effective May 31 2019 to be effective 5/31/2019.

Filed Date: 6/13/19.

Accession Number: 201906135093.

Comments/Protests Due: 5 p.m. ET 7/5/19.

Docket Numbers: RP19-1314-000.

Applicants: Kinetica Deepwater Express, LLC.

Description: Compliance filing Compliance Filing—FERC Order No. 587-Y in Docket No. RM96-1-041 to be effective 8/1/2019.

Filed Date: 6/13/19.

Accession Number: 20190613-5035.

Comments Due: 5 p.m. ET 6/25/19.

Docket Numbers: RP19-1315-000.

Applicants: Kinetica Energy Express, LLC.

Description: Compliance filing Compliance Filing—FERC Order No. 587-Y in Docket No. RM96-1-041 to be effective 8/1/2019.

Filed Date: 6/13/19.

Accession Number: 20190613-5072.

Comments Due: 5 p.m. ET 6/25/19.

Docket Numbers: RP19-1316-000.

Applicants: Trailblazer Pipeline Company LLC.

Description: § 4(d) Rate Filing: Neg Rate 2019-06-13 Tenaska and Koch to be effective 6/14/2019.

Filed Date: 6/13/19.

Accession Number: 20190613-5160.

Comments Due: 5 p.m. ET 6/25/19.

Docket Numbers: RP19-1317-000.

Applicants: Equitrans, L.P.

Description: § 4(d) Rate Filing: Negotiated Rate Agreement—Eclipse 6-14-2019 to be effective 6/14/2019.

Filed Date: 6/14/19.

Accession Number: 20190614-5050.

Comments Due: 5 p.m. ET 6/26/19.

Docket Numbers: RP19-1318-000.

Applicants: El Paso Natural Gas Company, L.L.C.

Description: § 4(d) Rate Filing: Non-Conforming Negotiated Rate Agreement Filing (Apache) to be effective 7/15/2019.

Filed Date: 6/14/19.

Accession Number: 20190614-5186.

Comments Due: 5 p.m. ET 6/26/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 17, 2019.
Nathaniel J. Davis, Sr.,
Deputy Secretary.

[FR Doc. 2019-13235 Filed 6-20-19; 8:45 am]

BILLING CODE 6717-01-P